DEPARTMENT OF HEALTH AND HUMAN SERVICES

Administration for Children and Families

Statement of Organization, Functions and Delegations of Authority

This notice amends Part K of the Statement of Organization, Functions and Delegations of Authority of the Department of Health and Human Services (HHS), Administration for Children and Families (ACF), as follows: Chapter KA, The Office of the Assistant Secretary (OAS), as previously amended at 69 FR 76949, December 23, 2004, (transferring the Freedom of Information Act (FOIA) function from the Office of the Assistant Secretary, Office of the Executive Secretariat, to the Division of Public Information, Office of Public Affairs) and at 71 FR 71549, December 11, 2006 (this notice inadvertently published the transfer of the FOIA Officer and Office of Inspector General hotline functions from the Office of the Assistant Secretary to the Office of Public Affairs), and Chapter KN, Office of Public Affairs (OPA), as previously amended 69 FR 76949, December 23, 2004, and at 71 FR 71549, 71550, December 11, 2006. This notice announces the transfer of the FOIA functions from the Division of Public Information, Office of Public Affairs, and places them in the Office of the Assistant Secretary for Children and Families. Because of the error in 2006 we are republishing the affected organizational structures of the Office of the Assistant Secretary and the Office of Public Affairs in their entirety. The changes are as follows:

I. Under Chapter KA, Office of the Assistant Secretary for Children and Families, delete in its entirety and replace with the following:

KA.00 Mission. The Office of the Assistant Secretary for Children and Families (OAS) provides executive direction, leadership, and guidance for all ACF programs. OAS provides national leadership to develop and coordinate public and private initiatives for carrying out programs that promote permanency placement planning, family stability, and self-sufficiency. OAS advises the Secretary on issues affecting America's children and families, including Native Americans, persons with developmental disabilities, refugees, and legalized aliens. OAS provides leadership on human service issues and conducts emergency preparedness and response operations during a nationally declared emergency. OAS handles Freedom of Information Act requests and inquiries and coordinates hotline calls received by the Office of Inspector General and the Government Accountability Office relating to ACF operations and personnel.

KA.10 Organization. The Office of the Assistant Secretary for Children and Families is headed by the Assistant Secretary for Children and Families who reports directly to the Secretary and consists of:

Office of the Assistant Secretary for Children and Families (KA)

President's Committee for People with Intellectual Disabilities Staff (KAD)

Executive Secretariat Office (KAF)

Office of Human Services Emergency Preparedness and Response (KAG)

KA.20 Functions A. Office of the Assistant Secretary for Children and Families (KA): The Office of the Assistant Secretary for Children and Families is responsible to the Secretary for carrying out ACF's mission and provides executive supervision of the major components of ACF. These responsibilities include providing executive leadership and direction to plan and coordinate ACF program activities to ensure their effectiveness, approving instructions, policies, publications, and grant awards issued by ACF, and representing ACF in relationships with governmental and non-governmental organizations. The Assistant Secretary for Children and Families also serves as the Director of the Office of Child Support Enforcement, and signs official child support enforcement documents as the Assistant Secretary for Children and Families. The Principal Deputy Assistant Secretary serves as an alter ego to the Assistant Secretary for Children and Families on program matters and acts in the absence of the Assistant Secretary for Children and Families. The Office coordinates hotline calls received by the Office of Inspector General and the Government Accountability Office relating to ACF operations and personnel and assists the ACF FOIA Officer in processing FOIA inquiries and requests relating to ACF programs and activities.

B. President's Committee for People With Intellectual Disabilities Staff (KAD): The President's Committee for People with Intellectual Disabilities (PCPID) staff provides general staff support for a Presidential-level advisory body. It coordinates all meetings and Congressional hearing arrangements; provides such advice and assistance in the areas of intellectual disabilities as the President or the Secretary may request; prepares and issues an annual report to the President concerning intellectual disabilities and such additional reports or recommendations as the President may require or as PCPID may deem appropriate; and evaluates the national effort to prevent and ameliorate intellectual disabilities. It works with other Federal, State, local governments, and private-sector organizations to achieve Presidential goals vis-à-vis intellectual disabilities, and develops and disseminates information to increase public awareness of intellectual disabilities to reduce its incidence and to alleviate its effects. The staff supporting PCPID reports to the Deputy Assistant Secretary for Policy and External Affairs.

C. The Executive Secretariat Office (KAF): The Executive Secretariat Office (ExecSec) ensures that issues requiring the attention of the Assistant Secretary, Deputy Assistant Secretaries and/or executive staff are addressed on a timely and coordinated basis and facilitates decisions on matters requiring immediate action, including White House, Congressional, and Secretarial assignments. ExecSec serves as the ACF liaison with the HHS Executive Secretariat. ExecSec receives, assesses, and controls incoming correspondence and assignments to the appropriate ACF component(s) for response and action and provides assistance and advice to ACF staff on the development of responses to correspondence. ExecSec provides assistance to ACF staff on the use of the controlled correspondence system. ExecSec coordinates and/or prepares Congressional correspondence; tracks development of periodic reports; and facilitates Departmental clearances. ExecSec is headed by a Director who reports to the Principal Deputy Assistant Secretary.

D. The Office of Human Services Emergency Preparedness and Response (KAG): The Office of Human Services Emergency Preparedness and Response (OHSEPR) provides general staff support for the implementation and coordination of ACF program and human services emergency planning, preparedness, and response during nationally declared emergencies. OHSEPR oversees disaster assessment, response operations and asset-management protocols. OHSEPR coordinates with ACF Central and Regional Offices, ACF State- and local grantee-funded programs, ACF program partner organizations, and the Office of the Secretary, Office of the Assistant Secretary for Preparedness and Response (ASPR). OHSEPR coordinates, through ASPR, with the Department of Homeland Security Federal Emergency Management Agency on human services emergency planning as part of the National Emergency Plan. The staff supporting OHSEPR reports to the Director of OHSEPR who reports to the Principal Deputy Assistant Secretary.

II. Under Chapter KN, Office of Public Affairs, Delete in Its Entirety and Replace With the Following:

KN.00 Mission. The Office of Public Affairs (OPA) develops, directs, and coordinates public affairs and communications services for ACF. OPA provides leadership, direction, and oversight in promoting ACF's public affairs policies, programs, and initiatives. OPA provides printing and distribution services for ACF.

KN.10 Organization. The Office of Public Affairs is headed by a Director who reports to the Assistant Secretary for Children and Families. The Office is organized as follows:

Office of the Director (KNA)

Division of Public Information (KNB)

Division of Publications Services (KNC)

KN.20 Functions. A. Office of the Director (KNA): The Office of the Director provides leadership and direction to OPA in administering OPA's responsibilities. The Office provides direction and leadership in the areas of public relations policy and communications services. The Office serves as an advisor to the Assistant Secretary for Children and Families in the areas of public affairs; provides advice on strategies and approaches to be used to improve public understanding of and access to ACF programs and policies; and coordinates and serves as ACF liaison with the Assistant Secretary for Public Affairs. The Office serves as Regional Liaison on public affairs issues. The Deputy Director assists the Director in carrying out the responsibilities of the Office.

B. Division of Public Information (KNB): The Division of Public Information develops and implements public affairs strategies to achieve ACF program objectives in coordination with other ACF components. The Division coordinates news media relations strategy; responds to all media inquiries concerning ACF programs and related issues; develops fact sheets, news releases, feature articles for magazines and other publications on ACF programs and initiatives; and manages preparation and clearance of speeches and official statements on ACF programs. The Division coordinates regional public affairs policies and public affairs activities pertaining to ACF programs and initiatives.

C. Division of Publications Services (KNC): The Division of Publications Services directs the audio-visual, publication and printing management services for ACF. The Division manages preparation and clearance of all ACF audio-visual products, publications, and graphic designs, including planning, budget oversight, and technical support. The Division provides centralized graphics design services to ACF. The Division reviews requests for proposals for contracts and grants that involve publications, audio-visual materials and/or public information and education activity. The Division also provides technical leadership and services in public information, printing, and mail distribution. The Division recommends approaches for meeting internal and external communications needs of ACF. The Division acts as focal point for clearance of all publications and audio-visual projects whether produced in-house or by contract or grant.

Dated: May 30, 2007.
Daniel C. Schneider,
Acting Assistant Secretary for Children and Families.

[FR Doc. E7-10777 Filed 6-4-07; 8:45 am]

BILLING CODE 4184-01-P